U.S. INTERNATIONAL DEVELOPMENT FINANCE CORPORATION

[DFC-012]

Submission for OMB Review; Comments Request

AGENCY: U.S. International Development Finance Corporation (DFC).

ACTION: Notice of information collection; request for comment.

SUMMARY: Under the provisions of the Paperwork Reduction Act, agencies are required to publish a Notice in the Federal Register notifying the public that the agency is renewing an existing previously approved information collection for OMB review and approval and requests public review and comment on the submission. The agencies received no comments in response to the sixty (60) day notice. The purpose of this notice is to allow an additional thirty (30) days for public comments to be submitted. Comments are being solicited on the need for the information; the accuracy of the burden estimate; the quality, practical utility, and clarity of the information to be collected; and ways to minimize reporting the burden, including automated collected techniques and uses of other forms of technology.

DATES: Comments must be received by September 26, 2022.

ADDRESSES: Comments and requests for copies of the subject information collection may be sent by any of the following methods:

• Mail: Deborah Papadopoulos, Agency Submitting Officer, U.S. International Development Finance Corporation, 1100 New York Avenue NW, Washington, DC 20527.

• Email: fedreg@dfc.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Deborah Papadopoulos, (202) 357-3979.

SUPPLEMENTARY INFORMATION: The agency received no comments in response to the sixty (60) day notice published in Federal Register volume 87 page 34671 on June 7, 2022. Upon publication of this notice, DFC will submit to OMB a request for approval of the following information collection.

Summary Form Under Review

Title of Collection: Economic Questionnaire.

Type of Review: Extension without change of a currently approved information collection.

Agency Form Number: DFC-012.

OMB Form Number: 3015-0001.

Frequency: Per request of investor.

Affected Public: Business or other for-profit clients.

Total Estimated Number of Annual Number of Respondents: 20.

Estimated Time per Respondent: 0.5 hours.

Total Estimated Number of Annual Burden Hours: 10 hours.

Abstract: The DFC Economic Questionnaire is provided to DFC investors to complete information for planned revenues and exports of goods. The resulting answers determine the sector of analysis to assess risk to the U.S. economy of DFC support for a project.

Dated: August 22, 2022.
Nichole Skoyles,
Administrative Counsel, Office of the General Counsel.

[FR Doc. 2022-18377 Filed 8-25-22; 8:45 am]

BILLING CODE 3210-02-P